DEPARTMENT OF THE INTERIOR

Fish and Wildlife Service

Notice of Availability of the Final Comprehensive Conservation Plan for the North Mississippi National Wildlife Refuge Complex, Which Consists of Three National Wildlife Refuges (Coldwater River, Dahomey, and Tallahatchie), as Well as a Number of Farm Service Agency Tracts in the Northern Section of the Mississippi Delta

AGENCY: Fish and Wildlife Service, Interior.

ACTION: Notice of availability.

SUMMARY: The Fish and Wildlife Service announces that a Final Comprehensive Conservation Plan for the North Mississippi National Wildlife Refuge Complex is available for distribution. The plan was prepared pursuant to the National Wildlife Refuge System Improvement Act of 1997, and in accordance with the National Environmental Policy Act of 1969, and describes how the Complex will be managed for the next 15 years. The compatibility determinations for hunting, fishing, wildlife observation, wildlife photography, environmental education and interpretation, off-road vehicle use, and resource research studies on each refuge, as well as bicycle use and farming on Dahomey and Tallahatchie refuges, are also available within the plan.

ADDRESSES: A copy of the plan may be obtained by writing to the Project Leader, North Mississippi National Wildlife Refuge Complex, 2776 Sunset Drive, Grenada, Mississippi 38901; or by calling the Project Leader at 662/226-8286. The plan may also be accessed and downloaded from the Service's Web site http://southeast.fws.gov/planning/.

SUPPLEMENTARY INFORMATION: The North Mississippi National Wildlife Refuge Complex, formerly the Mississippi Wetland Management District, is composed of three distinct work areas. Each contains a national wildlife refuge and all Farm Service Agency tracts within that area. The three refuges plus the 128 Farm Service Agency properties total 33,746 acres, with the Complex headquartered in Grenada. Since the Complex was established in 1989, and assigned administrative responsibility for Coldwater River, Dahomey, and Tallahatchie refuges, the overriding collective thrust has been the creation, restoration, and enhancement of wetlands on public and private lands. The Complex provides habitat for large concentrations of wintering waterfowl and numerous species of neotropical migratory birds.

Implementing the comprehensive conservation plan will enable the Complex to fulfill its role of conserving and managing fish and wildlife resources in the northern section of the Mississippi Delta, and of providing quality environmental education and wildlife-dependent recreation opportunities for visitors. The Service analyzed four alternatives for managing the Complex and selected Alternative D to guide management direction over the next 15 years.

Alternative D represents a combination and/or compromise between Alternative B (Public Use Emphasis) and Alternative C (Wildlife Management Emphasis). Whereas these two alternatives seek to maximize either expanded public use or expanded wildlife management opportunities, Alternative D seeks to optimize the benefits of the Complex to both wildlife and people. Under Alternative D, refuge lands will be more intensively managed than at present to provide quality habitat for wildlife, particularly migratory birds. Additional areas on the refuges with pumping capability (wells) and a water control structure will be managed for moist-soil vegetation or force-account farmed (with 100 percent of crops left standing) to benefit migratory waterfowl. Cooperative farming fields will be farmed in rice, milo, corn, or soybeans (in order of preference) and flooded during the late fall and winter.

Increased emphasis will be placed on meeting objectives of various step-down plans, providing habitat for waterfowl and shorebirds. These habitats and their use will be monitored on the refuges to ensure that goals and objectives are being met. Population and habitat surveys will be conducted throughout the refuges to develop baseline data to determine initial population levels and habitat conditions.

The alternative will encourage more public recreational uses even while intensifying current habitat management. Additional staff, emphasis, and resources will be more or less evenly divided between enhancing public use opportunities and wildlife habitat management. Hunting and fishing opportunities will be increased as funding and personnel allow. Moist-soil, cropland, forest, and wetland management will also intensify, to the extent permitted by funding and staffing limits. One auto tour, one canoe trail, one or more foot trail(s) and/or interpretive trail(s), one observation tower, and one or more blinds will be added for environmental education, photography, and watchable wildlife programs. Staff may be added to develop and present both on- and off-site environmental education and interpretation programs.

Under Alternative D, the Complex will continue to seek acquisition of all willing-seller inholdings within the acquisition boundaries, expanding Complex acreage by up to an additional 10 percent of the current boundaries. Highest priority will be given to those lands adjacent to existing refuge tracts and those lands supporting unique habitats or offering compatible public use opportunities. Additionally, the Complex will concentrate future off-refuge partnerships on promoting more intensive wildlife management on privately owned lands.

Public comments were requested, considered, and incorporated throughout the planning process. Public outreach included open houses, public meetings, technical workgroups, planning update mailings, and Federal Register notices. During the comment period on the draft document, the Service received a total of 25 comments. All substantive issues raised have been addressed either through revisions of the final comprehensive conservation plan or in responses contained in the appendix dealing with public comments.

Authority: This notice is published under the authority of the National Wildlife Refuge System Improvement Act of 1997, Public Law 105-57.

Dated: August 24, 2005.
Jeffrey M. Fleming,
Acting Regional Director.

[FR Doc. 05-24282 Filed 12-20-05; 8:45 am]

BILLING CODE 4310-55-M